DEPARTMENT OF VETERANS AFFAIRS

[OMB Control No. 2900-0524]

Agency Information Collection Activities Under OMB Review

AGENCY: Office of Policy and Planning, Department of Veterans Affairs

ACTION: Notice.

SUMMARY: In compliance with the Paperwork Reduction Act (PRA) of 1995 (44 U.S.C. 3501-21), this notice announces that the Office of Policy and Planning (OPPA), Department of Veterans Affairs, has submitted the collection of information abstracted below to the Office of Management and Budget (OMB) for review and comment. The PRA submission describes the nature of the information collection and its expected cost and burden and it includes the actual data collection instrument.

DATE: Comments must be submitted on or before November 24, 2003.

FOR FURTHER INFORMATION OR A COPY OF THE SUBMISSION CONTACT: Denise McLamb, Records Management Service (005E3), Department of Veterans Affairs, 810 Vermont Avenue, NW., Washington, DC 20420, (202) 273-8030 or FAX (202) 273-5981 or e-mail: denise.mclamb@mail.va.gov. Please refer to “OMB Control No. 2900-0524”).

Send comments and recommendations concerning any aspect of the information collection to VA's Desk Officer, OMB Human Resources and Housing Branch, New Executive Office Building, Room 10235, Washington, DC 20503 (202) 395-7316. Please refer to “OMB Control No. 2900-0524''.

SUPPLEMENTARY INFORMATION:

Title: VA Police Officer Pre-Employment Screening Checklist, VA Form 0120.

Type of Review: Extension of a currently approved collection.

Abstract: VA Form 0120 is used to document pre-employment screening and special background checks for police officer applicants. Prior to employment of a qualified applicant, each VA medical center is required to conduct a FBI arrest record inquiry and to contact listed former employers for information. The form is completed by each VA facility and serves as a record of pre-employment screening to determine the qualification and suitability of the applicant. It is the policy of VA that no person be employed as a VA police officer who has been convicted of a serious crime or whose history reflects a disregard for laws and regulations, questionable character, or a pattern of misconduct or poor work habits.

An agency may not conduct or sponsor, and a person is not required to respond to a collection of information unless it displays a currently valid OMB control number. The Federal Register Notice with a 60-day comment period soliciting comments on this collection of information was published on June 3, 2003, at page 33229.

Affected Public: State, Local or Tribal Government.

Estimated Time Per Respondent and Annual Burden: 250 hours.

Estimated Average Burden Per Respondent: 10 minutes.

Frequency of Response: On occasion.

Estimated Number of Respondents: 1,500.

Dated: October 8, 2003.
By direction of the Secretary.
Jacqueline Parks,
IT Specialist, Records Management Service.

[FR Doc. 03-26687 Filed 10-22-03; 8:45 am]

BILLING CODE 8320-01-P